NATIONAL COMMUNICATIONS SYSTEM

National Security Telecommunications Advisory Committee

AGENCY: National Communications System (NCS).

ACTION: Notice of Meeting.

SUMMARY: A meeting of the President's National Security Telecommunications Advisory Committee will be held on Wednesday, March 13, 2002, from 9:00 a.m. to 11:30 a.m. The Business Session will be held at the Department of State, Washington, DC.

The agenda is as follows:

—Call to Order/Welcoming Remarks

—Briefings on Lessons Learned from September 11, 2001, Evolving Threat to National Infrastructures, and Wireless Priority Access Service

—National Communications System Manager's Report

—NSTAC XXV Cycle in Review

—Adjournment

Due to the potential requirement to discuss classified information in conjunction with the issues listed above, the meeting will be closed to the public in the interest of National Defense.

FOR FURTHER INFORMATION CONTACT: Telephone Ms. Marilyn Witcher, (703) 607-6214, or write the Manager, National Communications System, 701 South Court House Road, Arlington, Virginia 22204-2198.

Peter Fonash,
Federal Register Liaison Officer, Technology and Programs Division, National Communications System.

[FR Doc. 02-4353 Filed 2-22-02; 8:45 am]

BILLING CODE 5001-08-M